DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 50223—50224, dated August 12, 2011) is amended to reflect the reorganization of the Office of Public Health Preparedness and Response, Centers for Disease Control and Prevention.

Section C-B, Organization and Functions, is hereby amended as follows:

After item (7) in the functional statement for the Office of Public Health Preparedness and Response (CG), Division of Strategic National Stockpile (CGE), Office of the Director (CGE1), insert the following: And (8) provides leadership, guidance, and technical assistance to state, tribal and local territories for healthcare preparedness and emergency response and for the integration of preparedness planning across the public health, healthcare, and emergency management sectors.

Dated: October 14, 2011.
Sherri A. Berger,
Chief Operating Officer, Centers for Disease Control and Prevention.

[FR Doc. 2011-27497 Filed 10-25-11; 8:45 am]

BILLING CODE 4163-18-P